SMALL BUSINESS ADMINISTRATION

[Declaration of Disaster #P048; Amendment #1]

Commonwealth of Kentucky

In accordance with a notice received from the Department of Homeland Security—Federal Emergency Management Agency, effective August 19, 2004, the above numbered Public Assistance declaration is hereby amended to include Shelby County in the Commonwealth of Kentucky as a disaster area due to damages caused by severe storms and flooding occurring on July 13, 2004, and continuing through July 15, 2004.

All other information remains the same, i.e., the deadline for filing applications for physical damage is October 5, 2004.

(Catalog of Federal Domestic Assistance Program Nos. 59008.)
Dated: August 31, 2004.
Cheri L. Cannon,
Acting Associate Administrator for Disaster Assistance.

[FR Doc. 04-20304 Filed 9-7-04; 8:45 am]

BILLING CODE 8025-01-P